NATIONAL AERONAUTICS AND SPACE ADMINISTRATION

[Notice (09-081)]

Privacy Act of 1974; Privacy Act System of Records

AGENCY: National Aeronautics and Space Administration (NASA).

ACTION: Notice of the retirement of one Privacy Act system of records notice.

SUMMARY: In accordance with the Privacy Act of 1974, NASA is giving notice that it proposes to retire the following Privacy Act system of records notice, Kennedy Space Center Shuttle Training Certification System (YC-04)/KSC 76STCS (October 1, 2007, 72 FR 55832) from its inventory of record systems and rely upon the Government-wide system of records notice issued by the Office of Personnel Management, OPM/Govt-1 General Personnel Records (June 19, 2006, 71 FR 35342), which is written to cover all Federal government training and certification records.

DATES: These changes will take effect 30 calendar days from the date of this publication.

FOR FURTHER INFORMATION CONTACT: Patti F. Stockman, Privacy Act Officer, Office of the Chief Information Officer, National Aeronautics and Space Administration Headquarters, Washington, DC 20546-0001, (202) 358-4787, NASA-PAOfficer@nasa.gov.

SUPPLEMENTARY INFORMATION: Pursuant to the provisions of the Privacy Act of 1974, 5 U.S.C. 552a, and as part of ongoing integration and management efforts, NASA is retiring the system of records notice, Kennedy Space Center Shuttle Training Certification System (YC-04)/KSC 76STCS (October 1, 2007, 72 FR 55832).

NASA will continue to collect and maintain records regarding individuals who are trained and certified to safely perform hazardous work and will rely upon the existing Federal Government-wide system of records notice titled OPM/GOVT-1 General Personnel Records (June 19, 2006, 71 FR 35342), which is written to cover all Federal training and certification record systems. Eliminating this notice will have no adverse impacts on individuals, but will promote the overall streamlining and management of NASA Privacy Act record systems.

Bobby L. German,
Acting NASA Chief Information Officer.

[FR Doc. E9-22849 Filed 9-22-09; 8:45 am]

BILLING CODE 7510-03-P